ENVIRONMENTAL PROTECTION AGENCY

40 CFR Part 300

[FRL-6907-7]

National Oil and Hazardous Substances Contingency Plan; National Priorities List

AGENCY: Environmental Protection Agency, (EPA).

ACTION: Deletion of the release from the route 940 drum dump site (the Site) from the national priorities list (NPL).

SUMMARY: The EPA Region III announces the deletion of the release from the Route 940 Drum Dump Site in Pocono Summit, Pennsylvania from the NPL. The NPL constitutes appendix B of 40 CFR part 300 which is the National Oil and Hazardous Substances Pollution Contingency Plan (NCP), which EPA promulgated pursuant to section 105 of the Comprehensive Environmental Response, Compensation, and Liability Act of 1980, as amended (CERCLA). EPA and the Pennsylvania Department of Environmental Protection (PADEP) have determined that all appropriate CERCLA response actions have been implemented and that no further cleanup by responsible parties is appropriate. Moreover, EPA and PADEP have determined that remedial activities conducted at the Site to date have been protective of public health, welfare and the environment.

EFFECTIVE DATE: November 30, 2000.

ADDRESSES: Comprehensive information on this release is available for viewing at the Site information repositories at the following locations: U.S. EPA Region III, 1650 Arch Street, Philadelphia, PA 19103, 215-814-3199; Tobyhanna Township Municipal Building, State Ave, Pocono Pines, PA 15065.

FOR FURTHER INFORMATION CONTACT: Donna Santiago (3HS22), Remedial Project Manager, U.S. Environmental Protection Agency Region III, 1650 Arch Street, Philadelphia, PA 19103, 215-814-3222.

SUPPLEMENTARY INFORMATION: The release to be deleted from the NPL is: Route 940 Drum Dump Site located in Pocono Summit, Monroe County, Pennsylvania.

EPA published a Notice of Intent to Delete (NOID) the Route 940 Drum Dump Superfund Site from the NPL on August 14, 2000 in the Federal Register (65 FR 45013). The closing date for comments on the NOID was September 14, 2000. EPA did not receive any comments on the proposed deletion. Therefore, no responsiveness summary is necessary for attachment to this Notice of Deletion.

The EPA identifies releases which appear to present a significant risk to public health, welfare or the environment, and it maintains the NPL as the list of those sites. Releases on the NPL may be the subject of remedial actions financed by the Hazardous Substance Superfund Response Trust Fund (Fund). Pursuant to § 300.425(e)(e) of the NCP, any release deleted from the NPL remains eligible for Fund-financed remedial actions in the unlikely event that conditions at the Site warrant such action.

Deletion of a release from the NPL does not affect responsible party liability or impede agency efforts to recover cost associated with response efforts.

List of Subjects in 40 CFR Part 300

Environmental protection, Air pollution control, Chemicals, Hazardous substances, Hazardous waste, Intergovernmental relations, Penalties, Reporting and recordkeeping requirements, Superfund, Water pollution control, Water supply.

Dated: November 13, 2000.
Bradley M. Campbell,
Regional Administrator, USEPA Region III.

For the reasons set out in the preamble, 40 CFR part 300 is amended as follows:

PART 300—[AMENDED]

1. The authority citation for part 300 continues to read as follows:

Authority: 33 U.S.C. 1321 (c)(2); 42 U.S.C. 9601-9657; E.O. 12777, 56 FR 54757, 3 CFR, 1991 Comp., p.351; E.O. 12580, 52 FR 2923, 3 CFR, 1987 Comp., p. 193.

Appendix B—[Amended]

2. Table 1 of appendix B to part 300 is amended by removing the site “Route 940 Drum Dump, Pocono Summit, Pennsylvania.”

[FR Doc. 00-30181 Filed 11-29-00; 8:45 am]

BILLING CODE 6560-50-U